DEPARTMENT OF HEALTH AND HUMAN SERVICES

Administration for Children and Families

Proposed Information Collection Activity; Comment Request

Proposed Projects:

Title: Head Start Family and Child Experiences Survey (FACES)

OMB No.: 0970-0151.

Description: The Administration for Children and Families (ACF) of the Department of Health and Human Services (HHS) is requesting comments on plans to collect data on a new cohort for the Head Start Family and Child Experiences Survey (FACES). This study is being conducted to collect information on Head Start performance measures under contract with Mathematica Policy Research, Inc. (with Juarez and Associates and Educational Testing Service as their subcontractors) (contract #HHSP23320052905YC).

FACES will involve four waves of data collection. The first wave will occur in fall 2006. Data will be collected on a sample of approximately 2,800 children and families from about 350 classrooms across 60 Head Start programs. Data collection will include assessments of Head Start children, interviews with their parents, and ratings by their Head Start teachers. Furthermore, site visitors will interview Head Start teachers and make observations of the types and quality of classroom activities.

The second wave in spring 2007 will be very similar to the fall 2006 data collection, except that we will not repeat interviews with the Head Start staff interviewed in the fall and will add an interview of the family services coordinator. The children in the second wave will be at the end of their first year of Head Start.

The third wave will occur in spring 2008 and will involve follow-ups with children who at this time are either completing a second year in Head Start or completing Kindergarten. For those children who are still attending Head Start, data collection will follow the same procedures as in spring 2007. For those children attending Kindergarten, data collection will include assessments of the children, an “update” survey of the information collection from the parent interview, and ratings of the children's academic progress and school adjustment by Kindergarten teachers.

The fourth wave of data collection will occur in spring 2009. Children who attended Kindergarten the previous year will not be included in this wave. The procedures for this effort will be the same as for Kindergartens in spring 2008.

This schedule of data collection is necessitated by the mandates of the Government Performance and Results Act (GPRA) of 1993 (Pub. L. 103-62), which requires that the Head Start Bureau move expeditiously toward development and testing of Head Start Performance Measures, and by the 1994 reauthorization of Head Start (Head Start Act, as amended, May 18, 1994, Section 649 (d)), which requires periodic assessments of Head Start's quality and effectiveness.

Respondents: Federal Government, individuals or households, and not-for-profit institutions.

Annual Burden Estimates

Estimated Response Burden for Respondents to the Head Start Family and Child Experiences Survey (FACES 2006)—Fall 2006, Spring 2007, Spring 2008, Spring 2009.

Instrument | Number of respondents | Number of responses per respondent | Average burden hours per response | Total burden hours
Year 1 (2006)
Head Start Parent Interview | 2,800 | 1 | 1.00 | 2,800
Head Start Child Assessment | 2,800 | 1 | 0.66 | 1,848
Teacher Child Rating | 350 | 8 | 0.25 | 700
Program Director Interview | 60 | 1 | 1.00 | 60
Center Director Interview | 120 | 1 | 1.00 | 120
Education Coordinator Interview | 120 | 1 | 0.75 | 90
Teacher Interview | 350 | 1 | 1.00 | 350
Year 1 Total | 6,600 |  |  | 5,968
Year 2 (2007)
Head Start Parent Interview | 2,400 | 1 | 0.75 | 1,800
Head Start Child Assessment | 2,400 | 1 | 0.66 | 1,584
Teacher Child Rating | 350 | 6.75 | 0.25 | 591
Family Service Coordinator Interview | 120 | 1 | 0.75 | 90
Year 2 Total | 5,270 |  |  | 4,065
Year 3 (2008)
Head Start Parent Interview | 850 | 1 | 0.75 | 638
Head Start Child Assessment | 850 | 1 | 0.66 | 561
Teacher Child Rating | 175 | 4.5 | 0.25 | 197
Kindergarten Parent Interview | 1,110 | 1 | 0.75 | 833
Kindergarten Child Assessment | 1,110 | 1 | 0.75 | 833
Kindergarten Teacher Questionnaire | 1,110 | 1 | 0.50 | 555
Year 3 Total | 5,205 |  |  | 3,615
Year 4 (2009)
Kindergarten Parent Interview | 725 | 1 | 0.75 | 544
Kindergarten Child Assessment | 725 | 1 | 0.75 | 544
Kindergarten Teacher Questionnaire | 725 | 1 | 0.50 | 363
Year 4 Total | 2,175 |  |  | 1,450

Estimated Total Burden Hours: 15,101.

Estimated Total Annual Burden Hours (average of 4 years): 3,775.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: November 30, 2005.
Robert Sargis,
Reports Clearance Officer.

[FR Doc. 05-23643 Filed 12-5-05; 8:45 am]

BILLING CODE 4184-01-M